DEPARTMENT OF THE INTERIOR

Bureau of Land Management

[OR-010-1020-PK; HAG 04-0063]

Meeting of the Southeast Oregon Resource Advisory Council

AGENCY: Bureau of Land Management (BLM), Lakeview District, Interior.

ACTION: Meeting notice for the Southeast Oregon Resource Advisory Council.

SUMMARY: The Southeast Oregon Resource Advisory Council (SEORAC) will hold a meeting for all members from 8 a.m. to 5 p.m. Pacific Time (P.T.), Monday, February 23, 2004, and 8 a.m. to 2 p.m. (P.T.) on Tuesday, February 24, 2004, at the BLM, Burns District Office. The meeting is open to the public. Members of the public may attend the meeting in person at the Burns District Office, Conference room, 28910 Hwy 20 West, Hines, Oregon 97738.

The meeting topics that may be discussed by the Council include a discussion of issues within Southeast Oregon related to: Welcome new members, elect new chair and vice-chair, charter changes and delayed RAC appointments. Comments and review on Steens/Andrews RMP. Discuss Healthy Forest legislation with Forest Service speaker and proposed projects from units and support for funding. Solicitor from Forest Service to discuss the appeal process changes and categorical exclusions. Noxious Weeds—update report from Burns Office. Report/Update on proposed grazing regulations. SEORAC Subcommittee meetings and reports. Federal Officials' update and other issues that may come before the Council.

Information to be distributed to the Council members is requested in written format 10 days prior to the Council meeting. Public comment is scheduled for 11:15 a.m. to 11:45 a.m. (P.T.) on Monday, February 23, 2004.

FOR FURTHER INFORMATION CONTACT: Additional information concerning the SEORAC meeting may be obtained from Pam Talbott, Contact Representative, Lakeview Interagency Office, 1301 South G Street, Lakeview, OR 97630 (541) 947-6107, or ptalbott@or.blm.gov and/or from the following Web site http://www.or.blm.gov/SEORAC.

Dated: January 5, 2004.
Steven A. Ellis,
District Manager.

[FR Doc. 04-777 Filed 1-13-04; 8:45 am]

BILLING CODE 4310-33-M